Title 3—

The President

Proclamation 10347 of March 4, 2022

National Consumer Protection Week, 2022

By the President of the United States of America

A Proclamation

As our Nation recovers and our economy continues its historic growth following a global pandemic, it is important that consumers are fully informed about their rights and the potential risks in the marketplace. Hardworking American families deserve to feel secure in the knowledge that, as we build back better, we are building an economy based on principles of fairness, privacy, and equity. During National Consumer Protection Week, we recommit ourselves to those basic rights, to protecting consumers, to raising awareness about bad actors and deceptive practices in the marketplace, and to empowering people to make informed financial decisions so that our economy works for everyone.

My Administration has zero tolerance for criminals who steal Americans' hard-earned dollars or abuse their personal information. Particularly in moments of crisis, like this pandemic, unscrupulous individuals have tried to take advantage of struggling Americans by price gouging, stealing money, harvesting personal information, and offering false hope for economic assistance, jobs, treatments, and cures. We are committed to halting these practices and protecting all consumers, including small businesses and gig workers, from fraud and unlawful business practices. Our Nation's consumer protection agencies—including the Federal Trade Commission (FTC), Consumer Financial Protection Bureau, and Consumer Product Safety Commission—work with the Department of Justice and law enforcement agencies nationwide to fight fraud, predatory practices, and data exploitation by abusers large and small. These agencies work every day to protect consumers and ensure product safety through investigations, law enforcement actions, and free, actionable, plain-language consumer education resources.

Abusive practices have an especially harmful impact on communities of color, who are often targeted by bad actors. A report from the FTC—Serving Communities of Color—found that people living in majority-Black and Latino communities were more likely to experience problems with credit bureaus, banks and lenders, and used car issues than those living in majority-white communities. That is why my Administration is reviving the Government's top consumer watchdog, the Consumer Financial Protection Bureau, to address racial disparities in access to loans, capital, and credit, while protecting consumers in historically underserved communities.

As a Nation, let us work together to create an environment that protects and educates American consumers and communities. This National Consumer Protection Week, and all year long, my Administration is committed to ensuring that every American has access to information that can help protect themselves and their communities. To learn more about these resources, please visit consumer.ftc.gov. To learn how to get involved with National Consumer Protection Week, you can visit ftc.gov/ncpw.

NOW, THEREFORE, I, JOSEPH R. BIDEN JR., President of the United States of America, by virtue of the authority vested in me by the Constitution and the laws of the United States, do hereby proclaim March 6, 2022, through March 12, 2022, as National Consumer Protection Week. I call upon government officials, industry leaders, and advocates across the Nation to share information about consumer protection and provide our citizens with information about their rights as consumers.

IN WITNESS WHEREOF, I have hereunto set my hand this fourth day of March, in the year of our Lord two thousand twenty-two, and of the Independence of the United States of America the two hundred and forty-sixth.

[FR Doc. 2022-05109

Filed 3-8-22; 8:45 am]

Billing code 3395-F2-P